DEPARTMENT OF ENERGY

Federal Energy Regulatory Commission

[Docket No. CP01-16-000]

Northern Natural Gas Company; Notice of Application

October 26, 2000.

Take notice that on October 19, 2000, Northern Natural Gas Company (Northern), 1111 South 103rd Street, Omaha, Nebraska 68124, filed in Docket No. CP01-16-000 an application pursuant to Section 7(b) of the Natural Gas Act (NGA) for permission and approval to abandon Unit #12, with appurtenances, at the Stevens Co. #2 compressor station located in Stevens County, Kansas, all as more fully set forth in the application which is on file with the Commission and open to public inspection. This filing may be viewed on the web at http://www.ferc.fed.us/online/rims.htm (call 202-208-2222 for assistance).

Specifically, Northern requests authority to abandon and remove Unit #12, as skid-mounted 506 hp rental unit,¹ and appurtenant facilities consisting of suction and discharge piping, control and exhaust equipment, a foundation, fuel metering and similar equipment. Northern states that the unit will be removed and returned to the rental company, and the appurtenant facilities will be disposed of or returned to inventory. Northern asserts that the compressor unit is no longer required due to changes in the operating conditions that have eliminated the need for this compressor unit. Northern also states that the abandonment will not: (1) impact any firm service obligations to its customers; (2) results in the abandonment of service to any of Northern's existing shippers; or (3) adversely effect capacity.

¹ This rental compressor unit was installed pursuant to Northern's blanket certificate authority granted by order in Docket No. CP82-401-000 issued on September 1, 1982 (20 FERC ¶ 62,410).

Any questions regarding the application should be directed to Keith L. Petersen, Director, Certificates and Report for Northern, 1111 South 103rd Street, Omaha, Nebraska 68124, at (402) 398-7421 or Michele Winckowski, Senior Regulatory Analyst, at (402) 398-7082.

Any person desiring to be heard or any person desiring to make any protests with reference to said application should on or before November 16, 2000, file with the Federal Energy Regulatory Commission, 888 First Street, N.E., Washington, D.C. 20426, a motion to intervene or a protest in accordance with the requirements of the Commission's Rules of Practice and Procedure (18 CFR 385.211 or 385.214) and the Regulations under the NGA (18 CFR 157.10). All protests filed with the Commission will be considered by it in determining the appropriate action to be taken but will not serve to make the protestants parties to the proceeding. Any person wishing to become a party to a proceeding or to participate as a party in any hearing therein must file a motion to intervene in accordance with the Commission's Rules. Beginning November 1, 2000, comments and protests may be filed electronically via the internet in lieu of paper. See, 18 CFR 385.2001(a)(1)(iii) and the instructions on the Commission's web site at http://www.ferc.fed.us/efi/doorbell.htm.

Take further notice that, pursuant to the authority contained in and subject to the jurisdiction conferred upon the Federal Energy Regulatory Commission by Sections 7 and 15 of the NGA and the Commission's Rules of Practice and Procedures, a hearing will be held without further notice before the Commission or its designee on this application if no motion to intervene is filed within the time required herein, if the Commission on its own review of the matter finds that permission and approval for the proposed abandonment are required by the public convenience and necessity. If a motion for leave to intervene is timely filed, or if the Commission on its own motion believes that a formal hearing is required, further notice of such hearing will be duly given.

Under the procedure herein provided for, unless otherwise advised, it will be unnecessary for Northern to appear or be represented at the hearing.

David P. Boergers,
Secretary.

[FR Doc. 00-27997 Filed 10-31-00; 8:45 am]

BILLING CODE 6717-01-M